FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 010982-041.

Title: Florida-Bahamas Shipowners and Operators Association.

Parties: Atlantic Caribbean Line, Inc.; Crowley Liner Services, Inc.; Nina (Bermuda) Ltd.; Pioneer Shipping Ltd.; Seaboard Marine, Ltd.; and Tropical Shipping and Construction Co., Ltd.

Filing Party: Joe Espinosa; Florida Shipowners Group Inc.; 101 N.E. Third Avenue; Suite 1500; Fort Lauderdale, FL 33301-1181.

Synopsis: The amendment would add SeaFreight Line, Ltd. as a party to the agreement.

Agreement No.: 011941-001.

Title: CMA CGM/ELJSA/GSL Amerigo Express 2 MUS Cross Space Charter, Sailing and Cooperative Working Agreement.

Parties: CMA CGM, S.A.; Italia Marittima S.P.A. (“Italia”); and Gold Star Line Ltd.

Filing Party: Paul M. Keane, Esq.; Cichanowicz, Callan, Keane, Vengrow & Textor, LLP; 61 Broadway; Suite 3000; New York, NY 10006-2802.

Synopsis: The amendment would replace Italia with the Evergreen Line Joint Service Agreement. The parties have requested expedited review.

Agreement No.: 011955-001.

Title: CMA CGM/CSCL/ELJSA Cross Space Charter, Sailing and Cooperative Working Agreement—North Europe/USEC and U.S. Gulf and Mexico Loop.

Parties: CMA CGM S.A.; China Shipping Container Lines Co., Ltd./China Shipping Container Lines (Hong Kong) Co., Ltd.; and Evergreen Line Joint Service Agreement (“ELJSA”).

Filing Party: Paul M. Keane, Esq.; Cichanowicz, Callan, Keane, Vengrow & Textor, LLP; 61 Broadway; Suite 3000; New York, NY 10006-2802.

Synopsis: The amendment replaces Hatsu Marine, Ltd. with ELJSA.

Agreement No.: 011997.

Title: Dole Ocean Cargo Express Inc.—South Pacific Shipping Company Ltd. Space Charter Agreement.

Parties: Dole Ocean Cargo Express Inc. and Ecuadorian Line, a Service of South Pacific Shipping Company, Ltd.

Filing Party: Michael G. Roberts, Esq.; Venable, LLP; 575 7th Street, NW; Washington, DC 20004.

Synopsis: The agreement authorizes the parties to share vessel space between the Pacific Coast of Costa Rica and the U.S. Pacific Coast.

Agreement No.: 011998.

Title: CSAV/EUKOR Venezuela Space Charter Agreement.

Parties: EUKOR Car Carriers, Inc. (“EUKOR”) and Compania Sud Americana de Vapores (“CSAV”).

Filing Party: Walter H. Lion, Esq.; McLaughlin & Stern, LLP; 260 Madison Ave; New York, NY 10016.

Synopsis: The agreement authorizes EUKOR to charter space to CSAV for the carriage of vehicles and other cargo between the U.S. Atlantic Coast and Venezuela.

Dated: May 4, 2007.
By order of the Federal Maritime Commission.
Karen V. Gregory,
Assistant Secretary.

[FR Doc. E7-8884 Filed 5-8-07; 8:45 am]

BILLING CODE 6730-01-P